DEPARTMENT OF ENERGY

Federal Energy Regulatory Commission

[Project No. 15003-001]

New Hampshire Renewable Resources, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 15003-001.

c. Date filed: February 8, 2021.

d. Applicant: New Hampshire Renewable Resources, LLC (New Hampshire Renewable).

e. Name of Project: Sugar River II Hydroelectric Project (project).

f. Location: On the Sugar River in Sullivan County, New Hampshire. The project does not occupy any federal land.

g. Filed Pursuant to: Federal Power Act 16 U.S.C. 791(a)-825(r).

h. Applicant Contact: Mr. Paul V. Nolan, New Hampshire Renewable Resources, LLC, 5515 North 17th Street, Arlington, VA 22205; Phone at (703) 534-5509, or email at pvnpvndiver@gmail.com.

i. FERC Contact: Michael Watts at (202) 502-6123, or michael.watts@ferc.gov.

j. The current license for the Sugar River II Hydroelectric Project is held by Sugar River Hydro II, LLC (Sugar River Hydro) under Project No. 10934. On April 30, 2019, Sugar River Hydro filed a letter stating that it does not intend to file an application for a subsequent license. In response to a solicitation notice issued by the Commission on May 8, 2019, New Hampshire Renewable filed a pre-application document and notice of intent to file an application for the project. Commission staff assigned Project No. 15003 for the licensing proceeding initiated by New Hampshire Renewable's filing.

k. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

l. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

m. Deadline for filing additional study requests and requests for cooperating agency status: April 9, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Sugar River II Hydroelectric Project (P-15003-001).

n. The application is not ready for environmental analysis at this time.

o. Project Description: The existing Sugar River II Hydroelectric Project consists of: (1) A 115.5-foot-long, 10-foot-high reinforced concrete dam that includes the following sections: (a) A 35-foot-long left abutment section with a cut-off wall; (b) a 44.5-foot-long spillway section with a crest elevation of 822 feet National Geodetic Vertical Datum 1929 (NGVD 29) that contains: (i) Two 11.5-foot-wide, 10-foot-high stanchion bays equipped with wooden stop logs; (ii) an 11.5-foot-wide, 10-foot-high hydraulically-operated steel slide gate; and (iii) a 3-foot-wide sluiceway; and (c) a 36-foot-long right abutment section with a cut-off wall; (2) a 1.4-acre impoundment with a storage capacity of 11 acre-feet at an elevation of 822 feet NGVD 29; (3) a 14-foot-wide, 12-foot-high intake structure adjacent to the right abutment equipped with a trashrack with 1-inch clear bar spacing; (4) a 730-foot-long buried penstock that includes a 500-foot-long, 7-foot-diameter steel section and a 230-foot-long, 7-foot-diameter concrete section; (5) a 35-foot-long, 27-foot-wide concrete and brick masonry powerhouse containing a single 200-kilowatt Francis-type turbine-generator unit; (6) a 75-foot-long, 4.16-kilovolt overhead transmission line and a transformer that connects the project to the local utility distribution system; and (7) appurtenant facilities. The project creates an approximately 400-foot-long bypassed reach of the Sugar River.

p. The current license requires the licensee to: (1) Operate the project in an instantaneous run-of-river mode; (2) release a continuous minimum bypassed reach flow of 15 cubic feet per second (cfs) or inflow, whichever is less, through the sluiceway from June 16 through March 30, and release a minimum bypassed reach flow of 20 cfs from April 1 through June 15, during the downstream migration season for Atlantic Salmon smolts. The project is operated in a run-of-river mode by manually raising and lowering the spillway slide gate, and removing/adding stop logs to the stanchion bays to pass flows and maintain a constant impoundment water surface elevation. Downstream fish passage is provided through the sluiceway. The average annual generation of the project is approximately 650 megawatt-hours. New Hampshire Renewable is not proposing any new project facilities or changes in project operation.

q. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-15003). At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

r. Procedural schedule: The application will be processed according to the following preliminary schedule. Revisions to the schedule will be made as appropriate.

Issue Deficiency Letter (if necessary) | April 2021.
Request Additional Information | April 2021.
Issue Acceptance Letter | July 2021.
Issue Scoping Document 1 for comments | August 2021.
Request Additional Information (if necessary) | October 2021.
Issue Scoping Document 2 | November 2021.
Issue Notice of Ready for Environmental Analysis | November 2021.

s. Final amendments to the application must be filed with the Commission no later than 30 days from the issuance date of the notice of ready for environmental analysis.

Dated: February 18, 2021.
Kimberly D. Bose,
Secretary.

[FR Doc. 2021-03800 Filed 2-23-21; 8:45 am]

BILLING CODE 6717-01-P